DEPARTMENT OF ENERGY

Federal Energy Regulatory Commission

Sunshine Act Meetings

The following notice of meeting is published pursuant to section 3(a) of the government in the Sunshine Act (Pub. L. No. 94-409), 5 U.S.C. 552b:

Agency Holding Meeting: Federal Energy Regulatory Commission.

TIME AND DATE: December 19, 2024, 10 a.m.

PLACE: Room 2C, 888 First Street NE, Washington, DC 20426.

STATUS: Open to the public.

MATTERS TO BE CONSIDERED: Agenda.

* NOTE—Items listed on the agenda may be deleted without further notice.

CONTACT PERSON FOR MORE INFORMATION: Debbie-Anne A. Reese, Secretary, Telephone (202) 502-8400.

For a recorded message listing items Stricken from or added to the meeting, call (202) 502-8627.

This is a list of matters to be considered by the Commission. It does not include a listing of all documents relevant to the items on the agenda. All public documents, however, may be viewed online at the Commission's website at https://elibrary.ferc.gov/eLibrary/search using the eLibrary link.

1120th—MEETING, OPEN
[December 19, 2024, 10:00 a.m.]
Item No | Docket No. | Company
ADMINISTRATIVE
A-1 | AD25-1-000 | Agency Administrative Matters.
A-2 | AD25-2-000 | Customer Matters, Reliability, Security and Market Operations.
ELECTRIC
E—1 | ER24-2025-000 | Wilderness Line Holdings, LLC.
E—2 | ER24-1848-000, ER24-1848-001 | Portland General Electric Company.
E—3 | ER24-1156-000, ER24-1156-001 | Florida Power & Light Company.
E—4 | EL24-104-001 | PJM Load Parties v. PJM Interconnection, L.L.C.
E—5 | EL24-18-000 | Urban Grid Solar Projects, LLC v. PJM Interconnection, L.L.C.
E—6 | ER24-232-002, ER24-232-000 | New York Transco, LLC and New York Independent System Operator, Inc.
E—7 | ER24-1614-002, ER24-1614-000 | Orange and Rockland Utilities Inc.
E—8 | ER24-679-002 | Duke Energy Carolinas, LLC and Duke Energy Florida, LLC.
| ER24-683-001 | Duke Energy Carolinas, LLC, Duke Energy Progress, LLC, and Duke Energy Florida, LLC.
E—9 | RR24-4-000 | North American Electric Reliability Corporation.
E—10 | RM25-3-000 | Reliability Standards for Frequency and Voltage Protection Settings and Ride-Through for Inverter-Based Resources.
E—11 | ER24-2401-001 | PJM Interconnection, L.L.C.
E—12 | EL24-145-000, QF24-935-001 | PFMD-LL-Jessup, LLC.
E—13 | EC24-111-000 | Algonquin Power Co., Altius Renewables, ULC, Algonquin Energy Services Inc., Algonquin Power Sanger LLC, Altavista Solar, LLC, Carvers Creek LLC, Clearview Solar I, LLC, Deerfield Wind Energy, LLC, Deerfield Wind Energy 2, LLC, Great Bay Solar I, LLC, Great Bay Solar II, LLC, GSG 6, LLC, Minonk Wind, LLC, New Market Solar ProjectCo 1, LLC, New Market Solar ProjectCo 2, LLC, Odell Wind Farm, LLC, Sandy Ridge Wind, LLC, Sandy Ridge Wind 2, LLC, Shady Oaks Wind 2, LLC, and Sugar Creek Wind One LLC.
E—14 | EC24-105-000 | ALLETE, Inc. and Alloy Parent LLC.
E—15 | EL23-16-000 | RENEW Northeast, Inc. v. ISO New England Inc. and New England Participating Transmission Owners Advisory Committee.
GAS
G—1 | RP23-466-002 | Florida Gas Transmission Company, LLC.
HYDRO
H—1 | P-3211-010 | Power Authority of the State of New York.
H—2 | P-13768-005 | Solia 6 Hydroelectric, LLC.
H—3 | P-15248-001 | RAMM Power Group, LLC.
CERTIFICATES
C—1 | CP24-492-000 | Hess Tioga Gas Plant LLC.

A free webcast of this event is available through the Commission's website. Anyone with internet access who desires to view this event can do so by navigating to www.ferc.gov' s Calendar of Events and locating this event in the Calendar. The Federal Energy Regulatory Commission provides technical support for the free webcasts. Please call (202) 502-8680 or email customer@ferc.gov if you have any questions.

Immediately following the conclusion of the Commission Meeting, a press briefing will be held in the Commission Meeting Room. Members of the public may view this briefing in the designated overflow room. This statement is intended to notify the public that the press briefings that follow Commission meetings may now be viewed remotely at Commission headquarters but will not be telecast.

Issued: December 12, 2024.
Debbie-Anne A. Reese,
Secretary.

[FR Doc. 2024-30057 Filed 12-13-24; 4:15 pm]

BILLING CODE 6717-01-P